DEPARTMENT OF COMMERCE

International Trade Administration

University of Minnesota, et al.; Notice of Consolidated Decision on Applications for Duty-Free Entry of Electron Microscope

This is a decision consolidated pursuant to Section 6(c) of the Educational, Scientific, and Cultural Materials Importation Act of 1966 (Pub. L. 89-651, as amended by Pub. L. 106-36; 80 Stat. 897; 15 CFR part 301). Related records can be viewed between 8:30 a.m. and 5:00 p.m. in Room 3720, U.S. Department of Commerce, 14th and Constitution Avenue NW., Washington, DC.

Docket Number: 13-028. Applicant: University of Minnesota, Department of Engineering & Material Science, Minneapolis, MN 55455. Instrument: Electron Microscope. Manufacturer: FEI Company, the Netherlands. Intended Use: See notice at 78 FR 59916, September 30, 2013.

Docket Number: 13-035. Applicant: Colorado State University, Department of Chemistry, Fort Collins, CO 80523-1872. Instrument: Electron Microscope. Manufacturer: JEOL Ltd., Japan. Intended Use: See notice at 78 FR 59916, September 30, 2013.

Docket Number: 13-038. Applicant: Air Force Institute of Technology, Wright-Patterson AFB, OH 45433-7765. Instrument: Electron Microscope. Manufacturer: FEI Company, Czech Republic. Intended Use: See notice at 78 FR 59916, September 30, 2013.

Docket Number: 13-039. Applicant: Department of Transportation, McClean, VA 22101. Instrument: Electron Microscope. Manufacturer: FEI Company, Czech Republic. Intended Use: See notice at 78 FR 59916, September 30, 2013.

Docket Number: 13-040. Applicant: Center for Disease Control and Prevention, Atlanta, GA 3041-5539. Instrument: Electron Microscope. Manufacturer: FEI Company, Czech Republic. Intended Use: See notice at 78 FR 59916, September 30, 2013.

Docket Number: 13-041. Applicant: Sanford-Burnham Medical Research, La Jolla, CA 92037. Instrument: Electron Microscope. Manufacturer: FEI Company, the Netherlands. Intended Use: See notice at 78 FR 59916, September 30, 2013.

Comments: None received. Decision: Approved. No instrument of equivalent scientific value to the foreign instrument, for such purposes as these instruments are intended to be used, was being manufactured in the United States at the time the instrument was ordered. Reasons: Each foreign instrument is an electron microscope and is intended for research or scientific educational uses requiring an electron microscope. We know of no electron microscope, or any other instrument suited to these purposes, which was being manufactured in the United States at the time of order of each instrument.

Dated: December 19, 2013.
Gregory W. Campbell,
Director, Subsidies Enforcement Office, Enforcement and Compliance.

[FR Doc. 2013-31272 Filed 12-27-13; 8:45 am]

BILLING CODE 3510-DS-P